DEPARTMENT OF LABOR

Office of the Secretary

Submission for OMB Review; Comment Request

December 20, 2002.

The Department of Labor (DOL) has submitted the following public information collection request (ICR) to the Office of Management and Budget (OMB) for review and approval in accordance with the Paperwork Reduction Act of 1995 (Pub. L. 104-13, 44 U.S.C. chapter 35). A copy of each individual ICR, with applicable supporting documentation, may be obtained by calling the Department of Labor. To obtain documentation contact Marlene Howze at ((202) 693-4158) or E-mail Howze-Marlene@dol.gov).

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Requirements of Bona Fide Thrift or Savings Plan (29 CFR part 547) and Requirements of a Bona Fide Profit-Sharing Plan or Trust (29 CFR part 549).

OMB Number: 1215-0119.

Affected Public: Business or other for-profit; individuals or households; not-for-profit institutions; and State, local or tribal government.

Frequency: On occasion.

Number of Respondents: 462,000.

Number of Annual Responses: 462,000.

Total Burden Hours (Recordkeeping): 2.

Total Annualized Capital/Startup Costs: $0.

Total Annual Costs (operating/maintaining systems or purchasing services): $0.

Description: Section 7(e)(3)(b) of the Fair Labor Standards Act permits the exclusion from an employee's regular rate of pay, payments on behalf of an employee to a “bona fide” thrift or savings plan, profit-sharing plan or trust. Regulations, 29 CFR part 547 and 549, set forth the requirements for a “bona fide” thrift or savings plan, profit-sharing plan or trust. The maintenance of the records required by the regulations enables the Department of Labor (DOL) investigators to determine whether a given thrift or savings plan, profit-sharing plan or trust, is in compliance with section 7(e)(3)(b) of the FLSA. Without these records, such a determination could not be made.

Ira L. Mills,
Departmental Clearance Officer.

[FR Doc. 03-425 Filed 1-8-03; 8:45 am]

BILLING CODE 4510-23-M